DEPARTMENT OF COMMERCE

National Oceanic and Atmospheric Administration

RIN 0648-XD098

Mid-Atlantic Fishery Management Council (MAFMC); Meetings

AGENCY: National Marine Fisheries Service (NMFS), National Oceanic and Atmospheric Administration (NOAA), Commerce.

ACTION: Notice of public meetings.

SUMMARY: The Mid-Atlantic Fishery Management Council (Council) will hold public meetings.

DATES: The meetings will be held on Tuesday, February 11, 2014 through Thursday, February 13, 2014. See SUPPLEMENTARY INFORMATION for specific dates and times.

ADDRESSES: The meetings will be held at the Double Tree by Hilton-Riverfront, 100 Middle St., New Bern, NC 28560; telephone: (252) 638-3585.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, February 11, 2014

9 a.m.—The Council will convene.

9 a.m. until 5 p.m.—The Climate Change and Fishery Science Workshop will be held.

Wednesday, February 12, 2014

9 a.m.—The Council will convene.

9 a.m. until 11:45 a.m.—The Mackerel, Squid, Butterfish Committee will meet as a Committee of the Whole.

11:45 a.m. until 12 p.m.—The Ricks E Savage Award will be presented.

1 p.m. until 2 p.m.—Meeting 1 for the Omnibus Allowable Biological Catch (ABC) Framework will be held.

2 p.m. until 3 p.m.—Meeting 1 for Framework 8 to the Summer Flounder, Scup, and Black Sea Bass Plan regarding Scup Gear Restricted Areas (GRAs) will be held.

3 p.m. until 4 p.m.—The Standardized Bycatch Reporting Methodology Amendment will be discussed.

4 p.m. until 5 p.m.—A Data Portal Presentation will be held.

5 p.m. until 6 p.m.—The South Atlantic Fishery Management Council (SAFMC) will hold a public hearing pertaining to Coastal Migratory Pelagics (CMP) Amendment 1.

Thursday, February 13, 2014

8:30 a.m. until 9:30 a.m.—Monkfish Framework 8 will be discussed.

9:30 a.m. until 1 p.m.—The Council will hold its regular Business Session to receive Organizational Reports, the New England and South Atlantic Liaison Reports, the Executive Director's Report, the Science Report, Committee Reports, and conduct any continuing and/or new business.

Agenda items by day for the Council's Committees and the Council itself are:

On Tuesday, February 11—A Climate Change and Fishery Science Workshop will be held. The purpose of the workshop is to inform the Council about the state of climate science relative to prediction of climate change and the expected ecosystem impacts/changes which may occur over the next two decades. Workshop outcomes will help the Council in the development of an adaptive fishery management framework that will effectively deal with ecosystem responses related to climate change.

On Wednesday, February 12—The Mackerel, Squid, Butterfish Committee will meet as a Committee of the Whole to discuss the Slippage Framework (Framework Meeting 2—action to minimize slippage events on observed mackerel trips) and the Omnibus Observer Funding Amendment (review purpose, goals, and preliminary alternatives). The Ricks E Savage Award will be presented. Meeting 1 of the Omnibus ABC Framework (tier 2 assessment revision, multiyear issues, automatic incorporation of new reference points) will be discussed. Meeting 1 for Framework 8 to the Summer Flounders, Scup, and Black Sea Bass Plan regarding Scup GRAs will be held to review data/analyses on the current Northern and Southern GRAs and consider options to maintain, modify, or remove the current GRAs. The Standardized Bycatch Reporting Methodology Amendment will be discussed for approval and submission. A Data Portal Presentation will be held to review project goals, methods and illustrative draft maps of Mid-Atlantic fishing activity summarized by port and gear groups and provide advice to the MARCO Portal Team on best approaches and opportunities for engaging fishermen to review, discuss and improve project data and maps. The SAFMC will hold a public hearing pertaining to Amendment 1. The amendment will update the Annual Catch Limits (ACLs) for Atlantic migratory group Spanish mackerel and Gulf migratory group Spanish mackerel based on the recent stock assessment and new ABC recommendations from the Scientific and Statistical Committees (SSCs).

On Thursday, February 13—Monkfish Framework 8 will be discussed to approve final measurements to consist of 2014-16 ABC/Annual Catch Target (ACT), Days-at-Sea, and Trip Limits and the northern boundary for Permit Category H vessels.

The Council will hold its regular Business Session to receive Organizational Reports, the New England Council Liaison Report, the Executive Director's Report, Science Report, Committee Reports, and conduct any continuing and/or new business.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: January 21, 2014.
Tracey L. Thompson,
Acting Deputy Director, Office of Sustainable Fisheries, National Marine Fisheries Service.

[FR Doc. 2014-01418 Filed 1-23-14; 8:45 am]

BILLING CODE 3510-22-P